NUCLEAR REGULATORY COMMISSION

[Project No. 753; NRC-2016-0063]

TS Inservice Testing Program Removal & Clarify SR Usage Rule Application to Section 5.5 Testing

AGENCY: Nuclear Regulatory Commission.

ACTION: Technical specifications task force; issuance.

SUMMARY: The U.S. Nuclear Regulatory Commission (NRC) is issuing Technical Specifications (TS) Task Force (TSTF) Traveler TSTF-545, Revision 3, “TS Inservice Testing [(IST)] Program Removal & Clarify [Surveillance Requirement] SR Usage Rule Application to Section 5.5 Testing,” for plant-specific adoption using the Consolidated Line Item Improvement Process (CLIIP).

DATES: March 28, 2016.

ADDRESSES: Please refer to Docket ID NRC-2016-0063 when contacting the NRC about the availability of information regarding this document. You may obtain publicly available information related to this document using any of the following methods:

• Federal Rulemaking Web site: Go to http://www.regulations.gov and search for Docket ID NRC-2016-0063. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. Traveler, TSTF-545, Revision 3, includes a model application and is available in ADAMS under Accession No. ML15294A555. The final model safety evaluation (SE) for plant-specific adoption of TSTF-545, Revision 3, is available in ADAMS under Accession No. ML15314A305.

• NRC's PDR: You may examine and purchase copies of public documents at the NRC's PDR, Room O1-F21, One White Flint North, 11555 Rockville Pike, Rockville, Maryland 20852.

FOR FURTHER INFORMATION CONTACT: Michelle C. Honcharik, telephone: 301-415-1774; email: Michelle.Honcharik@nrc.gov. For technical questions please contact Caroline Tilton, telephone: 301-415-0990; email: Caroline.Tilton@nrc.gov. Both are staff of the Office of Nuclear Reactor Regulation, U.S. Nuclear Regulatory Commission, Washington, DC 20555-0001.

SUPPLEMENTARY INFORMATION: Traveler, TSTF-545, Revision 3, is applicable to all nuclear power plants. The proposed change revises the Standard TS (STS), NUREG-1430, “Standard Technical Specifications Babcock and Wilcox Plants,” NUREG-1431, “Standard Technical Specifications Westinghouse Plants,” NUREG-1432, “Standard Technical Specifications Combustion Engineering Plants,” NUREG-1433, “Standard Technical Specifications General Electric Plants BWR/4,” and NUREG-1434, “Standard Technical Specifications General Electric Plants, BWR/6.” This STS improvement is part of the CLIIP. NUREG-1430 through NUREG-1434, Volume 1, can be accessed in ADAMS under Accession Nos. ML12100A177, ML12100A222, ML12102A165, ML12104A192, and ML12104A195, respectively. NUREG-1430 through NUREG-1434, Volume 2, can be accessed in ADAMS under Accession Nos. ML12100A178, ML12100A228, ML12102A169, ML12104A193, and ML12104A196, respectively.

Specifically, the proposed change modifies the STS to eliminate the Chapter 5.0, “Administrative Controls,” specification Section 5.5, “Inservice Testing Program,” to remove requirements duplicated in American Society of Mechanical Engineers (ASME) Code for Operation and Maintenance of Nuclear Power Plants (OM Code), Case OMN-20, “Inservice Test Frequency.” The ASME Code Case, OMN-20, provides similar definitions and allowances as in the current STS Inservice Testing Program. A new defined term, “Inservice Testing Program (IST),” is added to STS Section 1.1, “Definitions.” The STS Section 3.0, “Surveillance Requirement (SR) Applicability,” Bases are revised to explain the application of the usage rules to the Section 5.5 testing requirements. Existing uses of the term “Inservice Testing Program” in the STS and STS Bases are capitalized to indicate that it is now a defined term.

The NRC staff has reviewed the model application for TSTF-545, Revision 3, and has found it acceptable for use by licensees. Licensees opting to apply for this TS change are responsible for reviewing the NRC's staff SE and the applicable technical bases, providing any necessary plant-specific information, and assessing the completeness and accuracy of their license amendment request (LAR). The NRC will process each amendment application responding to the Notice of Availability according to applicable NRC rules and procedures.

The proposed change does not prevent licensees from requesting an alternate approach or proposing changes other than those proposed in TSTF-545, Revision 3. However, significant deviations from the approach recommended in this notice or the inclusion of additional changes to the license will require additional NRC staff review. This may increase the time and resources needed for the review and/or result in NRC staff rejection of the LAR. Licensees desiring significant deviations or additional changes should instead submit an LAR that does not claim to adopt TSTF-545, Revision 3.

Dated at Rockville, Maryland, this 18th day of March 2016.
For the Nuclear Regulatory Commission.
Kevin Hsueh,
Chief, Licensing Processes Branch, Division of Policy and Rulemaking, Office of Nuclear Reactor Regulation.

[FR Doc. 2016-06945 Filed 3-25-16; 8:45 am]

BILLING CODE 7590-01-P